DEPARTMENT OF TRANSPORTATION

Federal Aviation Administration

Fifth Meeting: Special Committee 229 (SC 229)

AGENCY: Federal Aviation Administration (FAA), U.S. Department of Transportation (DOT).

ACTION: Fifth meeting notice of Special Committee 229.

SUMMARY: The FAA is issuing this notice to advise the public of the fifth meeting of the Special Committee 229.

DATES: The meeting will be held September 1st-3rd from 9:00 a.m.-5:00 p.m.

ADDRESSES: The meeting will be held at RTCA Headquarters, 1150 18th Street NW., Suite 450, Washington, DC 20036, Tel: (202) 330-0663.

FOR FURTHER INFORMATION CONTACT: The RTCA Secretariat, 1150 18th Street NW., Suite 910, Washington, DC 20036, or by telephone at (202) 833-9339, fax at (202) 833-9434, or Web site at http://www.rtca.org or Sophie Bousquet, Program Director, RTCA, Inc., sbousquet@rtca.org, 202-330-0663.

SUPPLEMENTARY INFORMATION: Pursuant to section 10(a)(2) of the Federal Advisory Committee Act (Pub. L. 92-463, 5 U.S.C., App.), notice is hereby given for a meeting of the Special Committee 229. The agenda will include the following:

Tuesday, September 1, 2015 (09:30 a.m.-5:00 p.m.)

1. Welcome/Introductions/Administrative Remarks

2. Agenda overview and approval

3. Minutes Hamburg meeting review and approval

4. Review Action Items from Hamburg Meeting

5. “Phasing in” RTCA/DO-204B, EUROCAE/ED-62B requirements—discussion

6. Briefing of ICAO and COSPAS-SARSAT activities

7. WG 1 to 5 status and week's plan

8. Other Industry coordination and presentations

9. WG meetings (rest of the day)

Wednesday, September 2, 2015 (09:00 a.m.-5:00 p.m.)

1. WG 1 to 5 meetings

Thursday, September 3, 2015 (09:00 a.m.-4:00 p.m.)

1. WG 1-5 meetings (if needed)

2. WGs' reports

3. Action item review

4. Future meeting plans and dates

5. Industry coordination and presentations (if any)

6. Other business

7. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on June 26, 2015.
Latasha Robinson,
Management & Program Analyst, NextGen, Program Oversight and Administration, Federal Aviation Administration.

[FR Doc. 2015-16243 Filed 6-30-15; 8:45 am]

BILLING CODE 4910-13-P